DEPARTMENT OF COMMERCE

National Oceanic and Atmospheric Administration

Proposed Information Collection; Comment Request; Vessel Monitoring System Requirement for American Samoa Pelagic Longline Fishery

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before February 8, 2008.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument and instructions should be directed to Walter Ikehara, (808) 944-2275 or walter.ikehara@noaa.gov.

SUPPLEMENTARY INFORMATION:

I. Abstract

The commercial fishing vessels active in the American Samoa-based pelagic longline fishery that are greater than 50 feet in length overall must allow the National Marine Fisheries Service (NMFS) to install Vessel Monitoring System (VMS) units on their vessels when directed to do so by NMFS enforcement personnel. VMS units automatically send periodic reports on the position of the vessel. NMFS uses the reports to monitor the vessel's location and activities while enforcing longline fishing area closures. NMFS provide the funds for the units and messaging.

II. Method of Collection

The only information collected is vessel position reports, which are automatically transmitted via the VMS.

III. Data

OMB Number: 0648-0519.

Form Number: None.

Type of Review: Regular submission.

Affected Public: Business or other for-profits organizations.

Estimated Number of Respondents: 40.

Estimated Time per Response: 4 hours to install a VMS; 2 hours per year to maintain a VMS; 24 seconds a day to transmit hourly automated position reports from a vessel.

Estimated Total Annual Burden Hours: 193.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: December 4, 2007.
Gwellnar Banks,
Management Analyst, Office of the Chief Information Officer.

[FR Doc. E7-23862 Filed 12-7-07; 8:45 am]

BILLING CODE 3510-22-P